DEPARTMENT OF COMMERCE

International Trade Administration

[A-570-890]

Wooden Bedroom Furniture from the People's Republic of China: Extension of Time Limit for the Final Results of the Antidumping Duty Administrative Review

AGENCY: Import Administration, International Trade Administration, Department of Commerce.

EFFECTIVE DATE: May 25, 2010.

FOR FURTHER INFORMATION CONTACT: Jeff Pedersen or David Edmiston, AD/CVD Operations, Office 4, Import Administration, International Trade Administration, U.S. Department of Commerce, 14th Street and Constitution Avenue, NW, Washington, DC 20230; telephone: (202) 482-2769, and (202) 482-0989 respectively.

SUPPLEMENTARY INFORMATION:

Background

On February 5, 2010, the Department of Commerce (the Department) published the preliminary results of the administrative review of the antidumping duty order on wooden bedroom furniture (WBF) from the People's Republic of China (PRC), covering the period January 1, 2009 through December 31, 2009. See Wooden Bedroom Furniture From the People's Republic of China: Preliminary Results of Antidumping Duty Administrative Review and Intent To Rescind Review in Part, 75 FR 5952 (February 5, 2010). The final results of this administrative review were originally due no later than June 5, 2010. As explained in the memorandum from the Deputy Assistant Secretary for Import Administration, the Department has exercised its discretion to toll deadlines for the duration of the closure of the Federal Government from February 5, through February 12, 2010. Thus, all deadlines in this segment of the proceeding have been extended by seven days. The revised deadline for the final results of this review is currently June 12, 2010. See Memorandum to the Record from Ronald Lorentzen, DAS for Import Administration, regarding “Tolling of Administrative Deadlines As a Result of the Government Closure During the Recent Snowstorm,” dated February 12, 2010.

Extension of Time Limit of Final Results

Section 751(a)(3)(A) of the Tariff Act of 1930, as amended (the Act), requires that the Department issue the final results of an administrative review within 120 days after the date on which the preliminary results are published. If it is not practicable to complete the review within that time period, section 751(a)(3)(A) of the Act allows the Department to extend the deadline for the final results to a maximum of 180 days after the date on which the preliminary results are published.

The Department finds that it is not practicable to complete the final results of this review by June 12, 2010, because the Department needs additional time to consider over 30 complex issues the parties have raised. Therefore, in accordance with section 751(a)(3)(A) of the Act, the Department is extending the time limit for completion of the final results by 60 days to August 11, 2010.

This notice is published in accordance with sections 751(a)(3)(A) and 777(i) of the Act.

Dated: May 19, 2010.
John M. Andersen,
Acting Deputy Assistant Secretary for Antidumping and Countervailing Duty Operations.

[FR Doc. 2010-12566 Filed 5-24-10; 8:45 am]

BILLING CODE 3510-DS-S